DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Putative PEDF Receptor

Sofia P. Becerra, Luigi Notari (NEI).

DHHS Reference No. E-314-2003/0-US-01 filed 07 Aug 2003.

Licensing Contact: Susan S. Rucker; 301/435-4478; ruckersu@mail.nih.gov.

This application describes compositions and methods related to Pigmented Epithelium Derived Factor (PEDF). PEDF is a protein, belonging to the serpin family, that has been demonstrated to have neurotrophic, gliastatic, neuronotrophic and anti-angiogenic properties. In particular, the compositions and methods described and claimed in this application are related to the isolation, cloning, expression and characterization of the putative receptor for PEDF. The PEDF receptor as described herein is a transmembrane protein having an extracellular ligand-binding domain, a transmembrane domain and an intracellular domain. The PEDF receptor shares some homology with an orphan receptor identified in the liver and the protein known as adiponutrin.

The isolation and cloning of the PEDF receptor will be useful in basic research to further elucidate the role of PEDF and its receptor in signal transduction pathways. Furthermore, identification of the PEDF receptor will allow for the development of drug screening assays to identify agonists and antagonists of PEDF activity. In addition, isolation and identification of the PEDF receptor will allow new biological molecules such as monoclonal antibodies and chimeric IgG-receptor constructs to be developed.

This work has not yet been published.

Detection of Antigen-Specific T Cells and Novel T Cell Epitopes by Acquisition of Peptide/HLA-GFP Complexes

Steven Jacobson, Utano Tomaru, and Yoshihisa Yamano (NINDS).

U.S. Provisional Application No. 60/457,006 filed 24 Mar 2003 (DHHS Reference No. E-084-2003/0-US-01).

Licensing Contact: Brenda Hefti; 301/435-4632; heftib@mail.nih.gov.

This invention relates to a method for identifying specific T cell epitopes and antigen-specific T cells through labeling with an HLA-GFP complex expressed on an antigen-presenting cell. The T cells acquired the peptide-HLA-GFP complex through T cell mediated endocytosis upon specific antigen stimulation. This basic method can be used for several purposes. First, it can be used to generate a T-cell immune response through the attachment of a reporter peptide to the antigen-presenting cell. It can also be used as a way to assay a population of cells to determine whether any T cells specific for a particular antigen are present. This might be useful in applications related to autoimmunity, infectious disease, or cancer. Third, it can be used as a therapeutic to eliminate antigen-specific T cells associated with disease, if coupled to a toxic moiety.

Methods and Composition for the Diagnosis of Neuroendocrine Lung Cancer

Curtis Harris (NCI).

U.S. Provisional Application No. 60/423,380 filed 04 Nov 2002 (DHHS Reference No. E-248-2002/0-US-01).

Licensing Contact: Catherine Joyce; 301/435-5031; joycec@mail.nih.gov.

The technology relates to the use of cDNA microarrays to facilitate the identification of pulmonary neuroendocrine tumors. In order to identify molecular markers that could be used to classify pulmonary tumors, the inventors examined the gene expression profiles of clinical samples from patients with small cell lung cancer (SCLC), large cell neuroendocrine carcinoma (LCNEC), and typical carcinoma (TC) tumors by cDNA microarray analysis to detect hybridization between cDNA from tumor cells and DNA from a panel of 8,897 human genes. Gene expression was found to be nonrandom and to exhibit highly significant clustering that divided the tumors into their assigned World Health Organization (WH0) classification with 100% accuracy. The inventors concluded that pulmonary neuroendocrine tumors could be classified based on the genome-wide expression profile of the clinical samples without further manipulations.

The above-mentioned invention is available for licensing on an exclusive or non-exclusive basis.

Dated: October 24, 2003.
Steven M. Ferguson,
Director, Division of Technology Development and Transfer, Office of Technology Transfer, National Institutes of Health.

[FR Doc. 03-28058 Filed 11-6-03; 8:45 am]

BILLING CODE 4140-01-P